FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 15, 2015.

A. Federal Reserve Bank of Minneapolis (Jacquelyn K. Brunmeier, Assistant Vice President) 90 Hennepin Avenue, Minneapolis, Minnesota 55480-0291:

1. James N. Sanders, Plymouth, Minnesota, as managing member of Thanh Van LLC, Minneapolis, Minnesota, Van Sanders, Plymouth, Minnesota, as managing member of JNS LLC, Minneapolis, Minnesota, and James N. Sanders and Van Sanders, Trustees of The Van Sanders Revocable Trust, Minneapolis, Minnesota; to join the Tychman/Sanders Group, and acquire voting shares of The Tysan Corporation, Minneapolis, Minnesota, and thereby indirectly acquire voting shares of Lake Community Bank, Long Lake, Minnesota, and Pine Country Bank, Little Falls, Minnesota.

B. Federal Reserve Bank of Dallas (Robert L. Triplett III, Senior Vice President) 2200 North Pearl Street, Dallas, Texas 75201-2272:

1. The Morris Family Trust, Frank E. Morris and Janet G. Morris, Gainesville, Texas, as Trustees and to join the Morris Family Group, a group acting in concert; to retain voting shares of Red River Bancorp, Inc., and thereby indirectly retain voting shares of First State Bank, both in Gainesville, Texas.

Board of Governors of the Federal Reserve System, November 25, 2015.
Michael J. Lewandowski,
Associate Secretary of the Board.

[FR Doc. 2015-30438 Filed 11-30-15; 8:45 am]

BILLING CODE 6210-01-P